ENVIRONMENTAL PROTECTION AGENCY

[FRL-7381-5]

U.S.-Mexico Border 2012 Program

AGENCY: Environmental Protection Agency (EPA).

ACTION: Notice of the availability of the draft document for the U.S.-Mexico Border 2012 Program.

SUMMARY: The U.S. Environmental Protection Agency (EPA) is announcing the availability of the draft document, “Border 2012: U.S.-Mexico Environmental Program” (Border Plan or Border 2012). Border 2012 is a 10-year, binational, results-oriented, environmental program for the U.S.-Mexico border region, which has been developed by the EPA, the U.S. Department of Health and Human Services, Secretaría de Medio Ambiente y Recursos Naturales (Mexico's Secretariat of Environment and Natural Resources), Secretaría de Salud (Mexico's Secretaría of Health), the U.S. border Tribes, and the environmental agencies from each of the ten U.S.-Mexico border states. The proposed Border 2012 Program is the latest multi-year, binational planning effort to be implemented under the La Paz Agreement and succeeds Border XXI, a five-year program that ended in 2000. The mission of Border 2012 is to protect public health and the environment in the U.S.-Mexico border region, consistent with the principles of sustainable development.

EPA is requesting comments from interested parties and border stakeholders on the draft Border Plan.

DATES: Written comments must be submitted no later than November 22, 2002. Written comments can be submitted by mail or fax to either of EPA's Border Offices. Comments can also be submitted on EPA's U.S.-Mexico Border Web site at: http://www.epa.gov/usmexicoborder. In addition, EPA will be accepting comments at public meetings to be held throughout the border region during October and November 2002. The draft document, “Border 2012: U.S.-Mexico Environmental Program”, is posted in English and Spanish on EPA's web page at: http://www.epa.gov/usmexicoborder. In addition, English/Spanish copies of the draft document can be requested by contacting either of the EPA Border Offices:

EPA El Paso Border Office: 4050 Rio Bravo, Suite 100, El Paso, Texas 79902. Telephone (915) 533-7273; Toll-free (800) 334-0741; FAX (915) 533-2327. Office Hours: 8 a.m.-5 p.m. C.S.T.

EPA San Diego Border Office: 610 West Ash St., Suite 905, San Diego, CA 92101. Telephone (619) 235-4765; Toll-free (800) 334-0741; FAX (619) 235-4771. Office Hours: 8 a.m.-5 p.m. P.S.T.

FOR FURTHER INFORMATION CONTACT: EPA El Paso Border Office at (915) 533-7273 or (800) 334-0741 or EPA San Diego Border Office at (619) 235-4765 or (800) 334-0741.

SUPPLEMENTARY INFORMATION:

I. Background

For decades, the U.S. and Mexico have collaborated on efforts to protect the environment and health of border communities. The most recent binational effort was the Border XXI Program, which was initiated in 1996 with a five-year plan for addressing the most challenging environmental and environmentally-related health problems in the region. The formal foundation for these binational efforts is the La Paz Agreement (http://www.epa.gov/usmexicoborder/2002/efpaz.htm) signed by Presidents De la Madrid and Reagan in 1983. The agreement is implemented through multi-year binational programs such as Border XXI and the new Border 2012 program.

Although most of the Border XXI projects were implemented at the local level, its organizational structure emphasized border-wide coordination and planning. Nine border-wide workgroups—each focused on a particular environmental program, such as air quality or hazardous waste management—coordinated the efforts of various federal, state, tribal and local governmental activities in the border area. The new Border 2012 Program builds upon the successes achieved under Border XXI while also establishing a regionally-focused border plan to facilitate environmental priority setting and planning at the regional and local levels.

II. A New Approach

The proposed Border 2012 emphasizes a bottom-up approach, anticipating that local decision-making, priority-setting and project implementation will best address environmental issues in the border region. Border 2012 will emphasize concrete measurable results, public participation, transparency, and timely access to environmental information.

The Border 2012 Program proposes some key changes from Border XXI including: (1) New mission statement; (2) integration of pollution prevention and environmental information into the activities of all coordinating bodies; and (3) new organizational structure that focuses on regional workgroups to facilitate regional- and local-level planning and priority setting.

The major features of the Border 2012 program are the following: the coordinating bodies, goals and measurable objectives, and reporting results to the public.

III. Coordinating Bodies

Border 2012 is organized around coordinating bodies. These coordinating bodies include the following: the National Coordinators, four Regional (geographically-focused) Workgroups, three Border-wide Workgroups, and Policy Forums.

A. National Coordinators

Consistent with the requirements of the La Paz Agreement, the National Coordinators will monitor and manage implementation of the Border 2012 Program and ensure cooperation and communication among all coordinating bodies.

B. Regional Workgroups

Providing the foundation of the Border 2012 Program, four multi-media, regionally-focused workgroups will support the efforts of local Task Forces and coordinate activities at the regional and local level. The proposed Regional Workgroups are the following: California—Baja California, Arizona—Sonora, New Mexico—Texas—Chihuahua, and Texas—Coahuila—Nuevo León—Tamaulipas. Each Regional Workgroup will be co-chaired by one state and one federal representative from each country.

C. Border-wide Workgroups

Border-wide Workgroups will concentrate on issues that are multi-regional (identified as a priority by two or more Regional Workgroups) and primarily federal in nature (requiring direct, high-level, and sustained leadership by federal program partners in the United States and Mexico). Three Border-wide Workgroups will have federal U.S. and Mexican co-chairs for the following issues: environmental health, emergency preparedness and response, and cooperative enforcement and compliance.

D. Policy Forums

Policy Forums will have a media-specific focus and will concentrate on broad policy issues that require an on-going dialogue between the two countries. Three Policy Forums will be established to address policy issues and provide technical assistance to the Regional and Border-wide Workgroups in the following areas: air, water, hazardous waste, solid waste, and toxic substances.

The Regional Workgroups, Border-wide Workgroups, and the Policy Forums will be broad-based and will include representation from local communities from both sides of the border, including non-governmental or community-based organizations; academic institutions; local, state, and tribal representatives; and binational organizations (such as the Border Environmental Cooperation Commission or the North American Development Bank) with expertise in the given workgroup's subject area.

Except for the National Coordinators, the coordinating bodies may create Task Forces to address specific community-identified concerns and implement site-specific projects. Task Forces will be led by a “team leader” from each country and may be from any sector of government (including tribal governments), the private sector, academia, or from non-governmental organizations.

IV. Goals and Objectives

Border 2012 establishes the following five border-wide environmental goals for the U.S.-Mexico border region: reduce water contamination, reduce air pollution; reduce land contamination; reduce exposure to pesticides, particularly children's exposure; and reduce exposure to chemicals as a result of accidental chemical releases and/or deliberate acts of terrorism.

For each of the above goals, measurable objectives have been proposed. In all, there are fifteen measurable objectives. These objectives are in the areas of:

• Homes connected to potable water, wastewater collection and treatment systems;

• Surface and groundwater water quality;

• Ambient air quality standards;

• Human risk from air toxics;

• Voluntary compliance in maquiladoras;

• Hazardous and solid waste capacity in the border region;

• Hazardous waste violations at ports of entry;

• Tire piles;

• Brownfields;

• Pesticide exposure;

• Contingency planning; and

• Binational emergency planning.

V. Reporting Results

Every two years the coordinating bodies will publish an implementation report that describes the status of current and proposed activities under the Border 2012 program. In addition, comprehensive mid-term and final progress reports that describe progress on meeting the goals and objectives of the program, including environmental indicators, will be published in 2006 and 2012 respectively.

VI. Public Input and Participation During the Comment Period

EPA, SEMARNAT, and the U.S. and Mexican border states are seeking input from border stakeholders and other interested parties about the proposed Border 2012 program. We invite public comments related to all aspects of the proposed Border 2012 plan, and, in particular, we are interested in comments related to the following topics:

• Once established, each Regional Workgroup will develop specific plans and projects for that Region. What are the most important environmental issues for each region? Some examples of important environmental issues are included in the draft document.

• Will the new structure, especially the introduction of Regional Workgroups and Task Forces, help focus on the key environmental issues in each region? Are there improvements that could be made to the proposed structure that would improve decision-making?

• Will the Border 2012 plan provide adequate input from border stakeholders to state and federal decision-makers? Are there ways to improve the workgroup process to insure that stakeholders' concerns are heard?

A number of opportunities for the public to comment on the draft document are provided as follows:

A. EPA U.S.-Mexico Border Web Site

Individuals can submit comments directly by filling out the public comment form at: http://www.epa.gov/usmexicoborder/

B. Public Meetings

A number of public meetings will be held in October and November in the following cities: Deming, New Mexico; Las Cruces, New Mexico; Alpine, Texas; Imperial County, California Yuma/San Luis, Arizona; Sells, Arizona; Douglas, Arizona. In addition, bi-national meetings will be held in San Diego, California/Tijuana, Baja California; Nogales, Arizona/Nogales,Sonora; El Paso, Texas/Ciudad Juárez, Chihuahua; Del Rio, Texas/Ciudad Acuña, Coahuila; Laredo, Texas/Nuevo Laredo, Tamaulipas; Brownsville, Texas/Matamoros,Tamaulipas. For meeting locations and times, please check the EPA U.S.-Mexico Border website or contact the EPA Border Offices. Public comment will be accepted at these meetings.

C. Interested parties can also mail or fax comments to the EPA Border Offices at the addresses and fax numbers listed above.

D. On-Line Dialogue

The Udall Center for Studies in Public Policy will be hosting an on-line dialogue on the BECCNet Listserve during the comment period for interested parties to exchange ideas about the draft plan. The purpose of this dialogue is not to submit public comment, but rather to provide a forum for discussion of the draft document. To participate in or to monitor this dialogue, one must subscribe to the BECCNet Listserve. The instructions for subscribing to the BECCNet can be found on the Udall Center Web site at: http://udallcenter.arizona.edu/listservs/beccnet.html

VII. EPA's Relationship With U.S. Border Tribes in Border 2012

EPA will continue to honor its unique trust relationship with U.S. Indian tribes and enforce its “Policy for the Administration of Environmental Program on Indian Reservations” within the Border 2012 U.S.-Mexico program. EPA recognizes that U.S. tribal governments are sovereign and are the primary parties for setting standards, making environmental policy decisions, and managing environmental programs on Indian reservations.

Within the Border 2012 Program, EPA will comply with Executive Order 13175, “Consultation and Coordination with Indian Tribal Governments” and work with tribes when formulating and implementing policies or taking other actions that have a substantial direct effect on any Indian tribe.

EPA is working with U.S. border tribes to develop mechanisms to ensure full participation of U.S. border tribes in the Border 2012 Program.

Dated: September 18, 2002.
Joan Fidler,
Director Office of Western Hemisphere and Bilateral Affairs, Office of International Affairs.

[FR Doc. 02-24230 Filed 9-23-02; 8:45 am]

BILLING CODE 6560-50-P